NUCLEAR REGULATORY COMMISSION

[Docket Nos.: 50-295 and 50-304]

Exelon Generation Company, LLC; Zion Nuclear Power Station, Units 1 and 2; Notice of Public Meeting on the Proposed License Transfer and Draft Post Shutdown Decommissioning Activities Report

AGENCY: U.S. Nuclear Regulatory Commission (NRC).

ACTION: Notice of meeting.

FOR FURTHER INFORMATION, CONTACT: Mr. John B. Hickman, Mail Stop T-8F5, Decommissioning and Uranium Recovery Licensing Directorate, Division of Waste Management and Environmental Protection, Office of Federal and State Materials and Environmental Management Programs, U.S. Nuclear Regulatory Commission, Washington, DC 20555-0001, telephone: (301) 415-3017 or via e-mail: john.hickman@nrc.gov.

SUMMARY: The NRC is providing notice that the NRC staff will conduct a meeting to discuss and accept public comments on the Zion Nuclear Power Station, Units 1 and 2 (Zion) proposed license transfer and Zion Solutions (ZS) draft Post Shutdown Decommissioning Activities Report (PSDAR) on Wednesday, June 18, 2008, at 7 p.m. in a meeting room at the Illinois Beach Resort and Conference Center, 1 Lake Front Drive, Zion, Illinois (http://www.ilresorts.com/).

Zion began commercial operation in December 1973 for Unit 1, and September 1974 for Unit 2. Unit 1 permanently shut down on February 21, 1997, and Unit 2 permanently shut down on September 19, 1996. All fuel was removed from the reactor and placed in the spent fuel pool on April 27, 1997, for Unit 1 and February 25, 1998, for Unit 2. In accordance with 10 CFR 50.82(a)(1)(i), the licensee certified in a letter dated February 13, 1998, that operations have ceased at Zion. In accordance with 10 CFR 50.82(a)(1)(ii), the licensee certified in a letter dated March 9, 1998, that all fuel had been removed from the Zion reactor vessels and committed to maintain them permanently defueled. The NRC acknowledged the certification of permanent cessation of power operation and permanent removal of fuel from the reactor vessels in a letter dated May 4, 1998. Pursuant to 10 CFR 50.82(a)(2), the 10 CFR 50 facility operating licenses for Zion no longer authorize operation of the reactors or emplacement or retention of fuel in the reactor vessels. Also, pursuant to 10 CFR 50.51(b), “Continuation of license,” the facility licenses remain in effect until the NRC notifies the licensee that the licenses have been terminated.

On January 25, 2008, Exelon, the Zion licensee, submitted a request for a license transfer. The proposal is to transfer the licensed ownership, management authorities, and decommissioning trust fund of the facility to ZS a subsidiary of Energy Solutions. ZS was formed for the purpose of decommissioning the Zion site. The title to the site real estate and the spent nuclear fuel will remain with Exelon. ZS will construct and transfer the spent fuel to an ISFSI as part of the decommissioning. Following the decommissioning, currently scheduled for 10 years, the license for the spent fuel will be transferred back to Exelon.

On March 18, 2008, ZS submitted an amended PSDAR for Zion. The PSDAR represents the ZS plan of activities to become effective if the application for license transfer is approved. The PSDAR describes the planned decommissioning activities, provides a schedule for the planned decommissioning activities, includes a cost estimate for the decommissioning, and assesses the environmental impacts.

Further Information

The application for license transfer and the draft PSDAR are available for public viewing at the NRC's Public Document Room (PDR) or electronically through the NRC Agencywide Documents Access and Management System (ADAMS) at accession numbers ML080310521 for the transfer request and ML080840398 for the PSDAR. Documents may be examined, and/or copied for a fee, at the PDR, located at One White Flint North, 11555 Rockville Pike (first floor), Rockville, Maryland. Publicly available records will be accessible electronically from the ADAMS Public Library component on the NRC Web site, http://www.nrc.gov (the Public Electronic Reading Room). Persons who do not have access to ADAMS or who encounter problems in accessing the documents located in ADAMS should contact the NRC PDR Reference staff by telephone at 1-(800) 397-4209, or (301) 415-4737, or by e-mail at pdr.resource@nrc.gov.

Dated at Rockville, Maryland, this 2nd day of June 2008.
For the U.S. Nuclear Regulatory Commission.
Andrew Persinko,
Branch Chief, Reactor Decommissioning Branch, Decommissioning and Uranium Recovery Licensing Directorate, Division of Waste Management and Environmental Protection, Office of Federal and State Materials and Environmental Management Programs.

[FR Doc. E8-12696 Filed 6-5-08; 8:45 am]

BILLING CODE 7590-01-P